DEPARTMENT OF COMMERCE

Foreign-Trade Zones Board

[B-51-2021]

Foreign-Trade Zone (FTZ) 84—Houston, Texas; Authorization of Production Activity; Schlumberger Technology Corporation, Reslink Product Center (Sand Screens and Related Accessories); Baytown and Houston, Texas

On July 1, 2021, Schlumberger Technology Corporation, Reslink Product Center submitted a notification of proposed production activity to the FTZ Board for its facilities within Subzone 84AA, in Baytown and Houston, Texas.

The notification was processed in accordance with the regulations of the FTZ Board (15 CFR part 400), including notice in the Federal Register inviting public comment (86 FR 36522, July 12, 2021). On October 29, 2021, the applicant was notified of the FTZ Board's decision that no further review of the activity is warranted at this time. The production activity described in the notification was authorized, subject to the FTZ Act and the FTZ Board's regulations, including Section 400.14.

Dated: October 29, 2021.
Andrew McGilvray,
Executive Secretary.

[FR Doc. 2021-23937 Filed 11-2-21; 8:45 am]

BILLING CODE 3510-DS-P